DEPARTMENT OF LABOR

Employment and Training Administration

Notice of Funding Opportunity and Solicitation for Grant Applications (SGA) for Serving Juvenile Offenders in High-Poverty, High-Crime Communities

AGENCY: Employment and Training Administration, Labor.

ACTION: Notice of Solicitation for Grant Applications (SGA).

Funding Opportunity Number: SGA/DFA PY 10-09.

SUMMARY: Through this notice, the Department of Labor's Employment and Training Administration (ETA) announces the availability of approximately $17 million in grant funds authorized by the Workforce Investment Act of 1998 to serve juvenile offenders, ages 16 to 24, in high-poverty, high-crime communities. The purpose of these grants is to improve the long-term labor market prospects of these youth. The Department expects to award two grants of $8.5 million each to organizations with the capacity to implement multi-site, multi-state projects. Grantees will be required to competitively select local sub-grantees to operate the program in a minimum of five high-poverty, high-crime communities in at least two states.

The complete SGA and any subsequent SGA amendments, in connection with the Workforce Investment Act of 1998 is described in further detail on ETA's Web site at http://www.doleta.gov/grants or on http://www.grants.gov. The Web sites provide application information, eligibility requirements, review and selection procedures and other program requirements governing this solicitation.

DATES: The closing date for receipt of applications is April 12, 2011.

FOR FURTHER INFORMATION CONTACT: Donna Kelly, 200 Constitution Avenue, NW., Room N4716, Washington, DC 20210; Telephone: 202-693-3934.

Signed at Washington, DC, this 24th day of February, 2011.
Donna Kelly,
Grant Officer, Employment and Training Administration.

[FR Doc. 2011-4514 Filed 2-28-11; 8:45 am]

BILLING CODE 4510-FT-P